DEPARTMENT OF TRANSPORTATION

Federal Aviation Administration

Notice of Intent To Rule on Application 02-01-C-00-COU To Impose and Use the Revenue From a Passenger Facility Charge (PFC) at Columbia Regional Airport, Columbia, MO

AGENCY: Federal Aviation Administration, (FAA), DOT.

ACTION: Notice of intent to rule on application.

SUMMARY: The FAA proposes to rule and invites public comment on the application to impose and use the revenue from a PFC at Columbia Regional Airport under the provisions of the Aviation Safety and Capacity Expansion Act of 1990 (Title IX of the Omnibus Budget Reconciliation Act of 1990) (Pub. L. 101-508) and part 158 of the Federal Aviation Regulations (14 CFR part 158).

DATES: Comments must be received on or before June 19, 2002.

ADDRESSES: Comments on this application may be mailed or delivered in triplicate to the FAA at the following address: Federal Aviation Administration, Central Region, Airports Division, 901 Locust, Kansas City, MO 64106.

In addition, one copy of any comments submitted to the FAA must be mailed or delivered to Mr. William E. Boston, III, Airport Manager, Columbia Regional Airport, at the following address: City of Columbia, Missouri, 701 E. Broadway, Columbia, Missouri 65201.

Air carriers and foreign air carriers may submit copies of written comments previously provided to the City of Columbia, Columbia Regional Airport, under section 158.23 of Part 158.

FOR FURTHER INFORMATION CONTACT: Lorna Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Columbia Regional Airport under the provisions of the Aviation Safety and Capacity Expansion Act of 1990) (Title IX of the Omnibus Budget Reconciliation Act of 1990), (Pub. L. 101-508) and part 158 of the Federal Aviation Regulations (14 CFR part 158).

On May 10, 2002, the FAA determined that the application to impose and use the revenue from a PFC submitted by the City of Columbia, Missouri, was substantially complete within the requirements of section 158.25 of part 158. The FAA will approve or disapprove the application, in whole or in part, no later than August 13, 2002.

The following is a brief overview of the application.

Level of the proposed PFC: $4.50.

Proposed charge effective date: October, 2002.

Proposed charge expiration date: September, 2012.

Total estimated PFC revenue: $2,363,932.

Brief description of proposed project(s): Acquisition of Rapid Intervention Vehicle/Fire Truck; Phases I and II Resurfacing General Aviation Apron, Purchase Snowblower, and Renovation of Access Road and Ramp Lighting; Overlay Runway 13/31, Replace Fence, and Relocate Access Gate 5; Overlay Access Road and terminal loop, Construct Snow Removal Equipment Building Addition, Construct Taxiway C and Apron Underdrain; Add Computer Controlled Access Gates, Install Standby Electrical Generator; Extend Apron, Retain Consultant for Terminal Renovation, Aircraft Rescue Fire Fighting Facility Relocation, and Americans with Disabilities Act Updates to Terminal; Phase II of Air Carrier Apron Extension, Replace Front End Loader; Design Taxiway A Connecting Taxiway, Modify Gate 9 for Automated Operation, Construct Portion of Ramp and Taxiway Connector; Rehabilitation of North Cargo Apron; Master Plan Update; Reconstruct Portion of Runway 2/20, Upgrade Runway 2/20 North Safety Area and Relocate Omni-Directional Approach Lighting System and Instrument Landing System Localizer Building, Replace Underground Lighting Control Cables and Control Units; Construction of Phase II Portion of Apron Expansion and Connecting Taxiway between the Apron and Parallel Taxiway; Acquisition of Land; Preliminary Terminal Study; Environmental Assessment; Replacement of Snow Plow/Spreader Truck; Cargo Apron South Addition with Connecting Taxiway; Upgrade Runway 13/31; and Preliminary Terminal Upgrade Design.

Any person may inspect the application in person at the FAA office listed above under FOR FURTHER INFORMATION CONTACT.

In addition, any person may, upon request, inspect the application, notice and other documents germane to the application in person at the Columbia Regional Airport. Issued in Kansas City, Missouri on May 10, 2002.

George A. Hendon,
Manager, Airports Division, Central Region.

[FR Doc. 02-12612 Filed 5-17-02; 8:45 am]

BILLING CODE 4910-13-M